DEPARTMENT OF THE INTERIOR

Fish and Wildlife Service

Notice of Availability of Draft Environmental Impact Statement, Section 10 Permit Application, Draft Roosevelt Habitat Conservation Plan and Draft Implementing Agreement for Incidental Take by the Salt River Project and Notice of a Public Hearing on August 27, 2002

AGENCY: Fish and Wildlife Service, Department of the Interior.

ACTION: Notice of availability.

SUMMARY: The Salt River Project (SRP) has submitted an application for an incidental take permit (ITP) for the following federally listed and candidate species: southwestern willow flycatcher (Empidonax traillii extimus)(flycatcher), Yuma clapper rail (Rallus longirostris yumanensis) (clapper rail), (bald eagle (Haliaeetus leucocephalus), and the yellow-billed cuckoo (Coccyzus americanus)(cuckoo). The proposed take would occur in Gila and Maricopa counties, Arizona, as a result of management actions allowing Roosevelt Lake to fill, causing inundation of occupied habitat. The U.S. Fish and Wildlife Service (Service) has issued a draft Environmental Impact Statement (EIS) to evaluate the impacts of and alternatives for the possible issuance of an incidental take permit. SRP has completed the draft Roosevelt Habitat Conservation Plan (RHCP), along with a draft Implementing Agreement as part of the application package submitted to the Service (collectively, the “Application”) as required by the Endangered Species Act of 1973, as amended (Act) for consideration of issuance of an ITP. The Application provides measures to minimize and mitigate the effects of the proposed taking of listed and candidate species and the habitats upon which they depend.

DATES: Written comments on the draft EIS and Application documents will be accepted within 60 days of the date of this publication.

ADDRESSES: Persons wishing to review the draft EIS and Application may obtain a copy by writing to the Field Supervisor, U.S. Fish and Wildlife Service, 2321 West Royal Palm Road, Suite 103, Phoenix, AZ 85021. Oral and written comments also will be accepted at a public hearing to be held on August 27, 2002, 6-9 p.m. at the offices of the Salt River Project, 1521 Project Drive, Tempe, Arizona.

Arizona has experienced a prolonged drought. Due to low runoff from the watershed, Roosevelt Lake, the largest reservoir on the watershed serving Phoenix, is drawn down to less than 20% of capacity. After many years of drought, it is imperative that SRP know whether it can fill the reservoir this coming winter without risk that unpermitted incidental “take” will occur. For this reason, the Service does not intend to extend the public comment period beyond 60 days unless warranted by extraordinary circumstances. If additional information is needed from the Service or SRP in order to evaluate the draft EIS or Application, that information should be requested within 30 days of the date of this notice.

FOR FURTHER INFORMATION, CONTACT: On the EIS, Contact: Ms. Sherry Barrett, Assistant Field Supervisor, Tucson Suboffice, U.S. Fish and Wildlife Service, 110 S. Church, Suite 3450, Tucson, AZ 85701 at 520/670-4617, or Mr. Jim Rorabaugh, Arizona State Office, U.S. Fish and Wildlife Service, 2321 West Royal Palm Road, Suite 103, Phoenix, AZ 85021 at 602/242-0210. For further information on the Application, Contact: Mr. John Keane, Executive Environmental Policy Analyst, Salt River Project, P.O. Box 52025, PAB355, Phoenix, AZ 85072-2025 at 602/236-5087, or Mr. Craig Sommers, President, ERO Resources Corporation, 1842 Clarkson Street, Denver, CO 80218 at 303/830-1188.

Read-only downloadable copies of the draft EIS and Application documents are available on the Internet at http://www.arizonaes.fws.gov. A printed or CD copy of the documents is available upon request to Virginia Kasper, Salt River Project, P.O. Box 52025, Phoenix, AZ 85072-2025; (602) 236-3416; vckasper@srpnet.com. Copies of the draft EIS and Application are also available for public inspection and review at the locations listed below under Supplementary Information.

SUPPLEMENTARY INFORMATION: Pursuant to the National Environmental Policy Act (NEPA), this notice advises the public that the Service has gathered the information necessary to (1) determine impacts and formulate alternatives for the EIS, related to the potential issuance of an ITP to SRP; and (2) develop and implement the RHCP, which provides measures to minimize and mitigate the effects of the incidental take of federally listed species to the maximum extent practicable, pursuant to section 10(a)(1)(B) of the Act.

Section 9 of the Act prohibits the “taking” of threatened and endangered species. However, the Service, under limited circumstances, may issue permits to take threatened or endangered wildlife species incidental to, and not the purpose of, otherwise lawful activities. Regulations governing permits for endangered species are at 50 CFR parts 13 and 17.

Copies of the draft EIS and Application are available for public inspection and review at the following locations (by appointment at government offices):

• Department of the Interior, Natural Resources Library, 1849 C. St. NW, Washington, DC 20240.

• U.S. Fish and Wildlife Service, 110 S. Church, Suite 3450, Tucson, AZ 85701

• U.S. Fish and Wildlife Service, 2321 West Royal Palm Road, Suite 103, Phoenix, AZ 85021

• Salt River Project, 1521 Project Drive, Tempe, AZ 85281

• Globe Public Library, 339 S. Broad St., Globe, AZ 85501

• Government Document Service, Arizona State University, Tempe, AZ 85287

• Payson Public Library, 510 W. Main, Payson, AZ 85541

• Phoenix Public Library (Burton Barr Central), 1221 N. Central Ave., Phoenix, AZ 85004

• Tonto Basin Library, 1 School St., Tonto Basin (Punkin Center), AZ 85553

Written comments received by the Service become part of the public record associated with this action. Accordingly, the Service makes these comments, including names and home addresses of respondents, available for public review. Individual respondents may request that their home addresses be withheld from public disclosure, which will be honored to the extent allowable by law. There also may be circumstances in which a respondent's identity would be withheld from public disclosure, as allowable by law. If you wish to have your name and/or address withheld, you must state this prominently at the beginning of your comments. However, anonymous comments will not be considered. All submissions from organizations or businesses, and from individuals identifying themselves as representatives or officials of organizations or businesses, will be made available for public disclosure in their entirety.

Background

Roosevelt is operated by SRP in conjunction with three other reservoirs on the Salt River and two reservoirs on the Verde River as integral features of the Salt River Reclamation Project, authorized by the Reclamation Act of 1902, and pursuant to a 1917 contract with the United States. Since completion in 1911, Roosevelt has provided water for power generation, irrigation, municipal, and other uses. Currently, SRP reservoirs supply water to more than 1.6 million people in the cities of Phoenix, Mesa, Chandler, Tempe, Glendale, Gilbert, Scottsdale, Tolleson, and Avondale. In addition, water is provided to irrigate agricultural lands within SRP and for other uses. Also, water is delivered to the Salt River Pima-Maricopa Indian Community, Fort McDowell Indian Community, Gila River Indian Community, Buckeye Irrigation Company, Roosevelt Irrigation District, Roosevelt Water Conservation District, and others. Roosevelt and the other SRP reservoirs also provide a variety of recreational uses and environmental benefits in central Arizona. Due to dry conditions in central Arizona for the past six years, the water level at Roosevelt has been below normal. As a result, riparian vegetation has invaded and flourished in the portion of Roosevelt historically used by SRP to store water for use in the Phoenix metropolitan area. Animals that use riparian habitat have followed the vegetation growth and now occupy areas within the reservoir. In particular, a population of flycatchers now occupies habitat within the storage space at Roosevelt. Thus, periodic refilling of the reservoir may adversely affect habitat used by the flycatcher, clapper rail, bald eagle, and cuckoo.

Proposed Action

The proposed action is the issuance of an ITP for flycatchers, clapper rails, bald eagles, and cuckoos for SRP's operation of Roosevelt, pursuant to section 10(a)(1)(B) of the Act. The activity that would be covered by the permit is the continued operation of Roosevelt by SRP. The area covered by the permit includes Roosevelt up to an elevation of 2,151 feet, the highest point in the reservoir at which water is stored. The requested term of the permit is for a period of 50 years. To meet the requirements of a Section 10(a)(1)(B) permit, SRP has developed and will implement the RHCP, which provides measures to minimize and mitigate incidental take of flycatchers, clapper rails, and bald eagles to the maximum extent practicable, and which ensures that the incidental take will not appreciably reduce the likelihood of the survival and recovery of these species in the wild. The RHCP also addresses potential impacts on a candidate species, the yellow-billed cuckoo.

Alternatives

Two other alternatives being considered by the Service include the following:

1. No Permit—No issuance of an ITP by the Service. This alternative would require SRP to do everything within its control to avoid any take of federally listed species associated with its continued operation of Roosevelt.

2. Re-operation Alternative—Issuance of an ITP by the Service authorizing the modified operation of Roosevelt to reduce the short-term impact of reservoir operations on listed and candidate species. This alternative includes measures to minimize and mitigate the potential take of federally listed species.

H. Dale Hall,
Regional Director, Southwest Region.

[FR Doc. 02-17790 Filed 7-18-02; 8:45 am]

BILLING CODE 4510-55-P